DEPARTMENT OF TRANSPORTATION

Federal Highway Administration

[Docket No. FHWA-2002-12971

Agency Information Collection Activities; Request for Comments; Clearance of a New Information Collection; Survey of Drivers' Attitudes on Speeding and Speed Limits

AGENCY: Federal Highway Administration (FHWA), DOT.

ACTION: Notice and request for comments.

SUMMARY: The FHWA invites public comments about our intention to request the Office of Management and Budget's (OMB) approval for a new information collection that involves drivers' attitudes on speeding and speed limits. We are required to publish this notice in the Federal Register by the Paperwork Reduction Act of 1995.

DATES: Please submit comments by October 7, 2002.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading. All comments may be examined and copied at the above address from 9 a.m. to 5 p.m., Monday through Friday, except Federal holidays. If you desire a receipt you must include a self-addressed stamped envelope or postcard or, if you submit your comments electronically, you may print the acknowledgment page.

FOR FURTHER INFORMATION CONTACT: Ms. Elizabeth Alicandri, 202-366-6409, Office of Highway Safety, Federal Highway Administration, Department of Transportation, 400 Seventh Street, SW., Washington, DC 20590. Office hours are from 7 a.m. to 3:30 p.m., Monday through Friday, except Federal holidays.

SUPPLEMENTARY INFORMATION: Title: Survey on Drivers' Attitudes on Speeding and Speed Limits.

OMB Control No: New.

Background: The FHWA plans to enter into a cooperative agreement with the State of Massachusetts to initiate a project entitled “Demonstration and Evaluation of Rational Speed Limits”, to be performed by the Governor's Highway Safety Bureau of the Commonwealth of Massachusetts. As part of this cooperative agreement, information on local drivers' attitudes towards speeding, speed limits and enforcement will be gathered through a survey. A survey will be performed both before and after engineering, enforcement and educational measures to reduce speeding are implemented. The information obtained from the survey will help the FHWA understand the effectiveness of the measures and the drivers' responses to them. The responses to the survey will be voluntary and will not involve information that is required by regulations. There will be no direct costs to the respondents other than their time.

Respondents: General public.

Frequency: Data will be collected before and after engineering, enforcement and educational measures to reduce speeding are implemented.

Estimated Total Annual Burden Hours: The burden hours per response will be approximately 10 minutes. We estimate that a total of 800 drivers (400 “before” and 400 “after”) will be involved in the survey. Therefore, the total estimate is 134 burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register home page at http://www.nara.gov/fedreg and the Government Printing Office's database at http://www.access.gpo.gov/nara.

Authority: The Paperwork Reduction Act of 1995; 44 U.S.C. chapter 35, as amended; and 49 CFR 1.48.

Issued on: July 31, 2002.
James R. Kabel,
Chief, Management Programs and Analysis Division.

[FR Doc. 02-19790 Filed 8-5-02; 8:45 am]

BILLING CODE 4910-22-P